ENVIRONMENTAL PROTECTION AGENCY

[EPA-HQ-OECA-2012-0680; FRL-9996-81-OMS]

Information Collection Request Submitted to OMB for Review and Approval; Comment Request; Emission Guidelines and Compliance Times for Existing Municipal Solid Waste Landfills (Renewal)

AGENCY: Environmental Protection Agency (EPA).

ACTION: Notice.

SUMMARY: The Environmental Protection Agency has submitted an information collection request (ICR), Emission Guidelines and Compliance Times for Existing Municipal Solid Waste Landfills (EPA ICR Number 1893.08, OMB Control Number 2060-0430), to the Office of Management and Budget (OMB) for review and approval in accordance with the Paperwork Reduction Act. This is a proposed extension of the ICR, which is currently approved through August 31, 2019. Public comments were previously requested, via the Federal Register, on May 30, 2018 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before September 16, 2019.

ADDRESSES: Submit your comments, referencing Docket ID Number EPA-HQ-OECA-2012-0680, to: (1) EPA online using www.regulations.gov (our preferred method), by email to docket.oeca@epa.gov, or by mail to: EPA Docket Center, Environmental Protection Agency, Mail Code 28221T, 1200 Pennsylvania Ave. NW, Washington, DC 20460; and (2) OMB via email to oira_submission@omb.eop.gov. Address comments to OMB Desk Officer for EPA.

EPA's policy is that all comments received will be included in the public docket without change, including any personal information provided, unless the comment includes profanity, threats, information claimed to be Confidential Business Information (CBI), or other information whose disclosure is restricted by statute.

FOR FURTHER INFORMATION CONTACT: Patrick Yellin, Monitoring, Assistance, and Media Programs Division, Office of Compliance, Mail Code 2227A, Environmental Protection Agency, 1200 Pennsylvania Ave. NW, Washington, DC 20460; telephone number: (202) 564-2970; fax number: (202) 564-0050; email address: yellin.patrick@epa.gov.

SUPPLEMENTARY INFORMATION: Supporting documents, which explain in detail the information that the EPA will be collecting, are available in the public docket for this ICR. The docket can be viewed online at www.regulations.gov, or in person at the EPA Docket Center, WJC West, Room 3334, 1301 Constitution Ave. NW, Washington, DC. The telephone number for the Docket Center is 202-566-1744. For additional information about EPA's public docket, visit: http://www.epa.gov/dockets.

Abstract: Owners and operators of municipal solid waste landfills are required to comply with reporting and record keeping requirements for the General Provisions (40 CFR part 60, subpart A), as well as the applicable standards in 40 CFR part 60, subpart Cc and 40 CFR part 62 Subpart GGG. This includes submitting initial notifications, performance tests and periodic reports and results, and maintaining records of the occurrence and duration of any startup, shutdown, or malfunction in the operation of an affected facility, or any period during which the monitoring system is inoperative. These reports are used by EPA to determine compliance with these standards.

Form Numbers: None.

Respondents/affected entities: Owners and operators of privately-owned and publicly-owned municipal solid waste landfills, as well as for State and local agencies administering the State Plans.

Respondent's obligation to respond: Mandatory (40 CFR part 60 subpart Cc and 40 CFR part 62 subpart GGG).

Estimated number of respondents: 493 (total).

Frequency of response: Annually and occasionally.

Total estimated burden: 6,520 hours (per year). Burden is defined at 5 CFR 1320.3(b).

Total estimated cost: $449,000 (per year), which includes $0 for annualized capital/startup and/or operation & maintenance costs.

Changes in the estimates: There is a decrease in both the burden hours and the Capital/O&M costs in this ICR as compared to the previous ICR. The change in burden and cost estimates occurred as a result of the reporting in both the 2016 NSPS (40 CFR part 60, subpart XXX) and Emissions Guidelines (40 CFR part 60, subpart Cf). Most of the burdens previously attributed to the ICR for Subpart Cc and Subpart WWW have been accounted for in the 2016 ICRs for Subpart XXX (OMB Control Number 2060-0697) and Subpart Cf (OMB Control Number 2060-0720) to avoid duplication of burden for identical requirements.

Courtney Kerwin,
Director, Regulatory Support Division.

[FR Doc. 2019-17527 Filed 8-14-19; 8:45 am]

BILLING CODE 6560-50-P